DEPARTMENT OF HEALTH AND HUMAN SERVICES

Administration for Children and Families

Submission for OMB Review; Mental Health Care Services for Unaccompanied Children (New Collection)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on the proposed collection. The request consists of several forms that allow the Unaccompanied Children (UC) Program to provide mental health care services to UC.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ORR received several comments on this information collection in response to the Federal Register Notice published on January 7, 2021, (86 FR 1114) and has provided responses to those comments in its final submission to OMB. UC Path is critical to program operations and it is important that rollout of the new system not be delayed. Therefore, the below description details what will be included in the initial launch of the UC Path case management system and revisions based on public comments will be made after initial launch. ORR plans to conduct a deliberative review of commenters' suggestions and concerns and submit a request for revisions to this information collection request in January 2022. The upcoming information collection request will also include revisions based on feedback from UC Path system users (i.e., ORR grantee, contractor, and federal staff).

1. Initial Mental Health Evaluation (Form MH-1): This instrument is used by clinicians to document the UC's mental state upon arrival to the care provider facility. It includes an assessment of the UC's current mental state, psychiatric history, and substance use history.

2. Columbia Suicide Severity Rating Scale (SSRS) Risk Assessment (Form MH-2): This instrument is used by clinicians to assess suicide risk for UC who verbalize or demonstrate suicidal thoughts or behavior. It is a shorter version of the standard Columbia SSRS used to triage mental health care for UC, a tool designed to support suicide risk assessment through a series of simple, plain-language questions that anyone can ask. The Columbia SSRS includes the most essential, evidence-supported questions required for a thorough assessment. Further information about the Columbia SSRS can be found at https://cssrs.columbia.edu/the-columbia-scale-c-ssrs/about-the-scale/.

3. Mental Health Group Event (Form MH-3): This instrument is used by clinicians to document group counseling or community meetings held at the care provider program.

4. Clinical Contact Log (Form MH-4): This instrument is used by clinicians to document the following mental health services: Individual counseling, group counseling, community meetings, family counseling sessions, screenings/evaluations, and collateral contact with services providers involved in the UC's case. Mental Health Group Events (Form MH-3) may be linked to a Clinical Contact Log entry.

5. Mental Health Referral (Form MH-5): This instrument is used by clinicians and/or medical coordinators to refer a UC for community-based mental health care services (assessments/evaluations, psychotherapy, medical referrals, and treatment); acute and long-term psychiatric hospitalizations; and referrals to out-of-network residential treatment centers.

6. Mental Health Service Report (Form MH-6): This instrument is used by clinicians and/or medical coordinators to document the provision of community-based mental health care services (assessments/evaluations, psychotherapy, medical referrals, and treatment); acute and long-term psychiatric hospitalizations; and referrals to out-of-network residential treatment centers. In addition, the UC interview portion of the Out-of-Network Site Visit Report (Form M-3B), which is part of a different information collection request, is accessible from within this instrument.

7. Mental Health Task (Form MH-7): This instrument is auto-generated to create reminders for clinicians and/or medical coordinators of tasks that must be completed. Clinicians and/or medical coordinators may edit the instrument after it is generated.

Revisions:

1. ORR plans to replace the term “unaccompanied alien child (UC)” with “unaccompanied child (UC)” throughout the instruments in this collection. The revision in terminology will be made before the UC Path system is launched.

2. ORR plans to remove the term “alien” from the title of this information collection and revise it to read “Mental Health Care Services for Unaccompanied Children.”

Respondents: ORR grantee and contractor staff, and UC.

Annual Burden Estimates
Instrument | Annual total number of respondents | Annual total number of responses per respondent | Average burden minutes per response | Annual total burden hours
Initial Mental Health Evaluation (Form MH-1) | 216 | 241 | 60 | 52,056
Columbia SSRS Risk Assessment (Form MH-2) | 216 | 5 | 45 | 810
Mental Health Group Event (Form MH-3) | 216 | 156 | 10 | 5,616
Clinical Contact Log (Form MH-4) | 216 | 11,194 | 10 | 402,984
Mental Health Referral (Form MH-5) | 216 | 24 | 45 | 3,888
Mental Health Service Report (Form MH-6) | 216 | 31 | 45 | 5,022
Mental Health Task (Form MH-7) | 216 | 55 | 5 | 990
Estimated Annual Burden Hours Total: |  |  |  | 471,366

Authority: 6 U.S.C. 279; 8 U.S.C. 1232; Flores v. Reno Settlement Agreement, No. CV85-4544-RJK (C.D. Cal. 1996).

Mary B. Jones,
ACF/OPRE Certifying Officer.

[FR Doc. 2021-21280 Filed 9-29-21; 8:45 am]

BILLING CODE 4184-45-P